DEPARTMENT OF THE INTERIOR

National Park Service

[NPS-AKRO-DENA-CAKR-LACL-KOVA-WRST-GAAR-29399; PPAKAKROR4; PPMPRLE1Y.LS0000]

National Park Service Alaska Region Subsistence Resource Commission Program; Notice of Public Meetings

AGENCY: National Park Service, Interior.

ACTION: Meeting notice.

SUMMARY: The National Park Service (NPS) is hereby giving notice that the Aniakchak National Monument Subsistence Resource Commission, Denali National Park Subsistence Resource Commission (SRC), the Cape Krusenstern National Monument SRC, the Lake Clark National Park SRC, the Kobuk Valley National Park SRC, the Wrangell-St. Elias National Park SRC, and the Gates of the Arctic National Park SRC will meet as indicated below.

DATES: The Aniakchak National Monument SRC will meet from 1:00 p.m. to 4:30 p.m. or until business is completed on Thursday, March 12, 2020. Should inclement weather prevent travel throughout the week, the meeting will be held by teleconference on Friday, March 13, 2020. Teleconference participants must call the King Salmon, AK at (907) 246-2154 or (907) 246-3305, by Monday, March 9, 2020, prior to the meeting to receive teleconference passcode information. For more detailed information regarding this meeting, or if you are interested in applying for SRC membership, contact Mark Sturm, Designated Federal Official and Superintendent, at (907) 246-2120, or email at mark_sturm@nps.gov or Linda Chisholm, Subsistence Coordinator, at (907) 246-2154 or via email at linda_chisholm@nps.gov or Joshua T. Ream, Regional Subsistence Manager, at (907) 644-3596 or via email at joshua_ream@nps.gov.

The Denali National Park SRC will meet from 10:00 a.m. to 5:00 p.m. or until business is completed on Wednesday, March 25, 2020. Teleconference participants must call the NPS office at (907) 644-3604 prior to the meeting to receive teleconference passcode information. For more detailed information regarding these meetings, or if you are interested in applying for SRC membership, contact Designated Federal Official Denice Swanke, Acting Superintendent, at (907) 683-9627, or via email at denice_swanke@nps.gov or Amy Craver, Subsistence Coordinator, at (907) 644-3604 or via email at amy_craver@nps.gov or Joshua Ream, Federal Advisory Committee Group Federal Officer, at (907) 644-3596 or via email at joshua_ream@nps.gov.

The Cape Krusenstern National Monument SRC will meet from 1:00 p.m. to 5:00 p.m. or until business is completed on Tuesday, February 4, 2020, and from 9:00 a.m. to 12:00 p.m. on Wednesday, February 5, 2020. The alternate meeting dates are Tuesday, February 11, 2020, from 1:00 p.m. to 5:00 p.m., and Wednesday, February 12, 2020, from 9:00 a.m. to 12:00 p.m. at the same location. Teleconference participants must call the NPS office at (907) 442-8342 prior to the meeting to receive teleconference passcode information. For more detailed information regarding this meeting or if you are interested in applying for SRC membership, contact Designated Federal Official Maija Lukin, Superintendent, at (907) 442-8301, or via email at maija_lukin@nps.gov or Hannah Atkinson, Cultural Resource Specialist, at (907) 442-8342 or via email at hannah_atkinson@nps.gov or Joshua Ream, Federal Advisory Committee Group Federal Officer, at (907) 644-3596 or via email at joshua_ream@nps.gov.

The Lake Clark National Park SRC will meet from 1:00 p.m. to 4:00 p.m. or until business is completed on Wednesday, April 22, 2020. The alternate meeting date is Wednesday, April 29, 2020, at the same time and location. Teleconference participants must call the NPS office at (907) 644-3627 prior to the meeting to receive teleconference passcode information. For more detailed information regarding this meeting or if you are interested in applying for SRC membership, contact Designated Federal Official Susanne Green, Superintendent, at (907) 644-3627, or via email at susanne_green@nps.gov or Liza Rupp, Subsistence Manager, at (907) 644-3648 or via at email elizabeth_rupp@nps.gov or Joshua Ream, Federal Advisory Committee Group Federal Officer, at (907) 644-3596 or via email at joshua_ream@nps.gov.

The Kobuk Valley National Park SRC will meet from 1:00 p.m. to 5:00 p.m. or until business is completed on Thursday, February 6, 2020, and from 9:00 a.m. to 12:00 p.m. on Friday, February 7, 2020. The alternate meeting dates are Thursday, February 13, 2020, from 1:00 p.m. to 5:00 p.m., and Friday, February 14, 2020, from 9:00 a.m. to 12:00 p.m. at the same location. Teleconference participants must call the NPS office at (907) 442-8342 prior to the meeting to receive teleconference passcode information. For more detailed information regarding this meeting or if you are interested in applying for SRC membership, contact Designated Federal Official Maija Lukin, Superintendent, at (907) 442-8301, or via email at maija_lukin@nps.gov or Hannah Atkinson, Cultural Resource Specialist, at (907) 442-8342 or via email at hannah_atkinson@nps.gov or Joshua Ream, Federal Advisory Committee Group Federal Officer, at (907) 644-3596 or via email at joshua_ream@nps.gov.

The Wrangell-St. Elias National Park SRC will meet from 9:00 a.m. to 5:00 p.m. on Thursday, February 13, 2020, and from 9:00 a.m. to 5:00 p.m. or until business is completed on Friday, February 14, 2020. If business is completed on February 13, 2020, the meeting will adjourn, and no meeting will take place on February 14, 2020. The alternate meeting dates are Tuesday, February 25, 2020, from 9:00 a.m. to 5:00 p.m., and Wednesday, February 26, 2020, from 9:00 a.m. to 5:00 p.m. or until business is completed at the same location. Teleconference access to the meeting may be requested by calling the NPS office at (907) 822-7236 no later than Wednesday, February 12, 2020. For more detailed information regarding these meetings, or if you are interested in applying for SRC membership, contact Designated Federal Official Ben Bobowski, Superintendent, (907) 822-5234, or via email at ben_bobowski@nps.gov or Barbara Cellarius, Subsistence Coordinator, at (907) 822-7236 or via email at barbara_cellarius@nps.gov or Joshua Ream, Federal Advisory Committee Group Federal Officer, at (907) 644-3596 or via email at joshua_ream@nps.gov.

The Gates of the Arctic National Park SRC will meet from 8:30 a.m. to 5:00 p.m. or until business is complete on both Wednesday, April 8, 2020, and Thursday, April 9, 2020. The alternate meeting dates are Wednesday, April 15, 2020, from 9:00 a.m. to 5:00 p.m., and Thursday, April 16, 2020, from 9:00 a.m. to 5:00 p.m. or until business is completed at the same location. Teleconference participants must call the NPS office at (907) 455-0639 prior to the meeting to receive teleconference passcode information. For more detailed information regarding this meeting or if you are interested in applying for SRC membership, contact Designated Federal Official Greg Dudgeon, Superintendent, at (907) 457-5752, or via email at greg_dudgeon@nps.gov or Marcy Okada, Subsistence Coordinator, at (907) 455-0639 or via email at marcy_okada@nps.gov or Joshua Ream, Federal Advisory Committee Group Federal Officer, at (907) 644-3596 or via email at joshua_ream@nps.gov.

ADDRESSES: The Aniakchak National Monument SRC will meet at Katmai National Park, 1000 Silver Street, Bldg. 603, King Salmon, Alaska 99613. The Denali National Park SRC will meet at the MTNT Limited Tribal Village Corporation Office, 123 Takotna Avenue, McGrath, AK 99627. The alternate meeting location for the Denali National Park SRC will be at Pike's Waterfront Lodge, 1850 Hoselton Drive, Fairbanks, AK 99709. The Cape Krusenstern National Monument SRC will meet in the conference room at the Northwest Arctic Heritage Center, 171 3rd Avenue, Kotzebue, AK 99752. The Lake Clark National Park SRC will meet at the Newhalen School, 900 School Road, Newhalen, AK 99606. The Kobuk Valley National Park SRC will meet in the conference room at the Northwest Arctic Heritage Center, 171 3rd Avenue, Kotzebue, AK 99752. The Wrangell-St. Elias National Park SRC will meet at the NPS office in the Copper Center Visitor Center Complex, Wrangell-St. Elias National Park and Preserve, Mile 106.8 Richardson Highway, Copper Center, AK 99573. The Gates of the Arctic National Park SRC will meet at the Shungnak School, 6 West River Road, Shungnak, AK 99773.

SUPPLEMENTARY INFORMATION: The NPS is holding meetings pursuant to the Federal Advisory Committee Act (5 U.S.C. Appendix 1-16). The NPS SRC program is authorized under title VIII, section 808 of the Alaska National Interest Lands Conservation Act (16 U.S.C. 3118).

SRC meetings are open to the public and will have time allocated for public testimony. The public is welcome to present written or oral comments to the SRC. SRC meetings will be recorded and meeting minutes will be available upon request from the Superintendent for public inspection approximately six weeks after the meeting.

Purpose of the Meeting: The agenda may change to accommodate SRC business. The proposed meeting agenda for each meeting includes the following:

1. Call to Order—Confirm Quorum

2. Welcome and Introduction

3. Review and Adoption of Agenda

4. Approval of Minutes

5. Superintendent's Welcome and Review of the SRC Purpose

6. SRC Membership Status

7. SRC Chair and Members' Reports

8. Superintendent's Report

9. Old Business

10. New Business

11. Federal Subsistence Board Update

12. Alaska Boards of Fish and Game Update

13. National Park Service Staff Reports

a. Superintendent/Ranger Reports

b. Resource Manager's Report

c. Subsistence Manager's Report

14. Public and Other Agency Comments

15. Work Session

16. Set Tentative Date and Location for Next SRC Meeting

17. Adjourn Meeting.

SRC meeting location and date may change based on inclement weather or exceptional circumstances. If the meeting date and location are changed, the Superintendent will issue a press release and use local newspapers and radio stations to announce the rescheduled meeting.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2020-00197 Filed 1-9-20; 8:45 am]

BILLING CODE 4312-52-P